ENVIRONMENTAL PROTECTION AGENCY

[FRL-7248-5]

Agency Information Collection Activities: Submission for OMB Review; Comment Request, NESHAP: Natural Gas Transmission and Storage Facilities

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: NESHAP: Natural Gas Transmission and Storage Facilities (40 CFR part 63, subpart HHH); OMB Control Number 2060-0418; expiration date July 31, 2002. The ICR describes the nature of the information collection and its expected burden and cost; where appropriate, it includes the actual data collection instrument.

DATES: Comments must be submitted on or before August 21, 2002.

ADDRESSES: Send comments, referencing EPA ICR No. 1789.03 and OMB Control No. 2060-0418, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW, Washington, DC 20503.

FOR FURTHER INFORMATION CONTACT: For a copy of the ICR contact Susan Auby at EPA by phone at (202) 566-1672, by e-mail at auby.susan@epa.gov or download off the Internet at http://www.epa.gov/icr and refer to EPA ICR No. 1789.03. For technical questions about the ICR contact Dan Chadwick of the Office of Compliance at (202) 564-7054 or via e-mail at chadwick.dan@epa.gov

SUPPLEMENTARY INFORMATION:

Title: NESHAP: Natural Gas Transmission and Storage Facilities (40 CFR part 63, subpart HHH), OMB Control Number 2060-0418, EPA ICR Number 1789.03, expiration date July 31, 2002. This is a request for extension of a currently approved collection.

Abstract: The National Emission Standards for Hazardous Air Pollutants (NESHAP), for the regulations published at 40 CFR part 63, subpart HHH were proposed on February 6, 1998 and promulgated on June 17, 1999. These regulations apply to the following facilities in 40 CFR part 63, subpart HHH: facilities that are major sources or area sources of hazardous air pollutants (HAP) that transport or store natural gas prior to entering the pipeline to a local distribution company or to a final end user, and that commences construction, modification or reconstruction after the date of proposal. Specifically exempted from this regulation are oil and natural gas production wells. This information is being collected to assure compliance with 40 CFR part 63, subpart HHH.

In general, all NESHAP standards require initial notifications, performance tests, and periodic reports. Owners or operators are also required to maintain records of the occurrence and duration of any start-up, shutdown, or malfunction in the operation of an affected facility, or any period during which the monitoring system is inoperative. These notifications, reports, and records are essential in determining compliance, and are required of all sources subject to NESHAP.Any owner or operator subject to the provisions of this part shall maintain a file of these measurements, and retain the file for at least 5 years following the date of such measurements, maintenance reports, and records. All reports are sent to the delegated State or local authority. In the event that there is no such delegated authority, the reports are sent directly to the EPA Regional Office.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on; 01/30/02 no comments were received.

Burden Statement: The annual public reporting and recordkeeping burden for this collection of information is estimated to average 19 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and Operators of Natural Gas Transmission and Storage Facilities.

Estimated Number of Respondents: 7.

Frequency of Response: On Occasion, Semi-Annually, Annually.

Estimated Total Annual Hour Burden: 581 hours.

Estimated Total Annualized Capital, O&M Cost Burden: $0.

Send comments on the Agency's need for this information, the accuracy of the provided burden estimates, and any suggested methods for minimizing respondent burden, including through the use of automated collection techniques to the addresses listed above. Please refer to EPA ICR No. 1789.03 and OMB Control No. 2060-0418 in any correspondence.

Dated: July 10, 2002.
Oscar Morales,
Director, Collection Strategies Division.

[FR Doc. 02-18411 Filed 7-19-02; 8:45 am]

BILLING CODE 6560-50-P